ENVIRONMENTAL PROTECTION AGENCY

40 CFR Parts 51 and 52

[FRL-7999-2, E-Docket ID No. OAR-2005-0163]

Prevention of Significant Deterioration (PSD) and Nonattainment New Source Review (NSR), and New Source Performance Standards (NSPS): Emissions Test for Electric Generating Units

AGENCY: Environmental Protection Agency (EPA).

ACTION: Announcement of public hearing and extension of comment period.

SUMMARY: The EPA is announcing a public hearing to be held on December 9, 2005 and an extension of the public comment period on our proposed changes to the New Source Review (NSR) permitting program at 70 FR 61081. (October 20, 2005). The proposed changes would revise the emissions test for existing electric generating units (EGUs) that are subject to the regulations governing the Prevention of Significant Deterioration and nonattainment major NSR programs mandated by parts C and D of title I of the Clean Air Act (CAA). We also solicited comment on a proposed revised emissions test under the New Source Performance Standards (NSPS) regulations. The public hearing will provide interested parties the opportunity to present data, views, or arguments concerning these proposed changes. The EPA is also extending the public comment period from December 19, 2005 to February 17, 2006. The EPA is holding the public hearing and extending the public comment period by 60 days because of the number of requests we received in a timely manner.

DATES: Comments: Comments must be received on or before February 17, 2006.

Public Hearing: The public hearing will convene at 9 a.m. and continue until at least 7 p.m., or until the last registered speaker has spoken, but no later than 9 p.m., on December 9, 2005. People wishing to present oral testimony are strongly encouraged to register before the hearing, unregistered speakers will be accommodated to the extent time is available. The public hearing will close at 12 noon for lunch and reconvene at 1 p.m. The public hearing will close at 5:30 p.m. for dinner and reconvene at 6:30 p.m. For updates and additional information on the public hearing, please check EPA's web site for this rulemaking at http://www.epa.gov/nsr.

ADDRESSES: Public Hearing: The public hearing will be held at the U.S. Environmental Protection Agency, 109 TW Alexander Drive, Research Triangle Park, North Carolina 27709, Building C, in Auditorium C111. Because this hearing is being held at U.S. government facilities, everyone planning to attend the hearing should be prepared to show valid picture identification to the security staff in order to gain access to the meeting room. In addition, you will need to obtain a property pass for any personal belongings you bring with you. Upon leaving the building, you will be required to return this property pass to the security desk. No large signs will be allowed in the building and demonstrations will not be allowed on Federal property for security reasons. Directions to the EPA Campus are available on the internet at http://www.epa.gov/rtp/facilities/maindirections.htm, along with a map showing the area designated for visitor parking. From there, walk toward the main facility and enter the center building (by the U.S. and EPA flags).

Comments: Submit your comments, identified by Docket ID No. OAR-2005-0163 by one of the following methods:

• Federal eRulemaking Portal: http://www.regulations.gov. Follow the on-line instructions for submitting comments.

• Agency Web site: http://www.epa.gov/edocket. EDOCKET, EPA's electronic public docket and comment system, is EPA's preferred method for receiving comments. Follow the on-line instructions for submitting comments.

• E-mail: a-and-r-docket@epamail.epa.gov.

• Fax: 202-566-1741.

• Mail: Attention Docket ID No. OAR-2005-0163, U.S. Environmental Protection Agency, EPA West (Air Docket), 1200 Pennsylvania Avenue, Northwest, Mail Code: 6102T, Washington, DC 20460. In addition, please mail a copy of your comments on the information collection provisions to the Office of Information and Regulatory Affairs, Office of Management and Budget (OMB), Attn: Desk Officer for OMB, 725 17th Street, Northwest, Washington, DC 20503.

• Hand Delivery: U.S. Environmental Protection Agency, EPA West (Air Docket), 1301 Constitution Avenue, Northwest, Room B102, Washington, DC 20004, Attention Docket ID No. OAR-2005-0163. Such deliveries are only accepted during the Docket's normal hours of operation, and special arrangements should be made for deliveries of boxed information.

Instructions: Direct your comments to Docket ID No. OAR-2005-0163. EPA's policy is that all comments received will be included in the public docket without change and may be made available online at http://www.epa.gov/edocket, including any personal information provided, unless the comment includes information claimed to be Confidential Business Information (CBI) or other information whose disclosure is restricted by statute. Do not submit information that you consider to be CBI or otherwise protected through EDOCKET, regulations.gov, or e-mail. The EPA EDOCKET and the Federal regulations.gov websites are “anonymous access” systems, which means EPA will not know your identity or contact information unless you provide it in the body of your comment. If you send an e-mail comment directly to EPA without going through EDOCKET or regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, avoid any form of encryption, and be free of any defects or viruses. For additional information about EPA's public docket visit EDOCKET on-line or see the Federal Register of May 31, 2002 (67 FR 38102).

FOR FURTHER INFORMATION CONTACT: Ms. Janet McDonald at (919) 541-1450, telefax (919) 541-5509, E-mail: mcdonald.janet@epa.gov or by mail at U.S. Environmental Protection Agency, OAQPS, Information Transfer and Program Integration Division, (C339-03), Research Triangle Park, North Carolina 27711. As of the date of this announcement, the Agency intends to proceed with the hearings as announced; however, unforeseen circumstances may result in a postponement. Therefore, members of the public planning to attend any of these hearings are advised to check our Web site at http://www.epa.gov/nsr/. Members of the public may also contact Ms. Chandra Kennedy, U.S, Environmental Protection Agency, OAQPS, Information Transfer and Program Integration Division, (C339-03), Research Triangle Park, North Carolina 27711; telephone (919) 541-5319 or E-mail kennedy.chandra@epa.gov, to confirm the December 9, 2005 meeting location and date. If you would like to speak at this hearing, you should also contact Ms. Chandra Kennedy no later than December 2, 2005 and provide an electronic copy of your presentation for distribution to hearing attendees and for inclusion in E-Docket ID No. OAR-2005-0163. Oral testimony will be limited to 5 minutes per commenter. The EPA may ask clarifying questions during the oral presentations, but will not respond to the presentations or comments at that time. Written statements and supporting information submitted during the comment period will be considered with the same weight as any oral comments and supporting information presented at the public hearing. Verbatim transcripts and written statements will be included in the rulemaking docket. The agenda will be provided to the speakers no later than December 5, 2005, along with written hearing ground rules and the Federal building safety requirements. For updates and additional information on the public hearing, please check EPA's website for this rulemaking at http://www.epa.gov/nsr/.

SUPPLEMENTARY INFORMATION: Public Hearing: The EPA's planned seating arrangement for the hearing is theater style, with seats available on a first come, first served basis, for about 300 people. An agenda, the hearing ground rules, and instructions on how to comment will be provided at the hearing.

Comments: This notice extends the public comment period established in the Federal Register published on October 20, 2005 (70 FR 61081). In that notice, EPA proposed changes to the NSR and NSPS regulations. The EPA is hereby extending the comment period, which was set to end on December 19, 2005, to February 17, 2006.

All documents in the docket are listed in the EDOCKET index at http://www.epa.gov/edocket. Although listed in the index, some information is not publicly available, i.e., CBI or other information whose disclosure is restricted by statute. Certain other material, such as copyrighted material, is not placed on the Internet and will be publicly available only in hard copy form. Publicly available docket materials are available either electronically in EDOCKET or in hard copy at the U.S. Environmental Protection Agency, EPA West (Air Docket), 1301 Constitution Avenue, Northwest, Room B102, Washington, DC. Attention Docket ID No. OAR-2005-0163. The Public Reading Room is open from 8:30 a.m. to 4:30 p.m., Monday through Friday, excluding legal holidays. The telephone number for the Public Reading Room is (202) 566-1744, and the telephone number for the Air Docket is (202) 566-1742.

Dated: November 15, 2005.
Alan C. Rush,
Acting Director, Office of Air Quality Planning and Standards.

[FR Doc. 05-23087 Filed 11-21-05; 8:45 am]

BILLING CODE 6560-50-P